DEPARTMENT OF HEALTH AND HUMAN SERVICES

Health Resources and Services Administration

Recruitment of Sites for Assignment of Corps Personnel Obligated Under the National Health Service Corps Scholarship Program

AGENCY: Health Resources and Services Administration, HHS.

ACTION: General notice.

SUMMARY: The Health Resources and Services Administration (HRSA) announces that the listing of entities and associated Health Professional Shortage Area (HPSA) scores that will receive priority for the assignment of National Health Service Corps (NHSC) scholarship recipients serving as Corps members, as well as those serving under the Private Practice Option (“NHSC scholars” collectively), during the period July 1, 2014, through September 30, 2015, is posted on the NHSC Web site at http://nhscjobs.hrsa.gov. The NHSC Jobs Center includes all sites that are approved for performance of service by NHSC scholars; however, note that entities on this list may or may not have current job vacancies.

Eligible HPSAs and Entities

To be eligible to receive assignment of Corps members, entities must: (1) Have a current HPSA status of “designated” by the Division of Policy and Shortage Designation, Bureau of Clinician Recruitment and Service, HRSA, as of January 1, 2014, for placements July 1, 2014, through December 31, 2014, or January 1, 2015, for placements January 1, 2015, through September 30, 2015; (2) not deny requested health care services, or discriminate in the provision of services to an individual because the individual is unable to pay for the services or because payment for the services would be made under Medicare, Medicaid, or the Children's Health Insurance Program (CHIP); (3) enter into an agreement with the state agency that administers Medicaid and CHIP, accept assignment under Medicare, see all patients regardless of their ability to pay and post such policy, and use and post a discounted fee plan; and (4) be determined by the Secretary to have (a) a need and demand for health manpower in the area; (b) appropriately and efficiently used Corps members assigned to the entity in the past; (c) general community support for the assignment of Corps members; (d) made unsuccessful efforts to recruit; (e) a reasonable prospect for sound fiscal management by the entity with respect to Corps members assigned there; and (f) demonstrated a willingness to support and facilitate mentorship, professional development, and training opportunities for Corps members.

Priority in approving applications for assignment of Corps members goes to sites that (1) provide primary medical care, mental health, and/or oral health services to a primary medical care, mental health, or dental HPSA of greatest shortage, respectively; (2) are part of a system of care that provides a continuum of services, including comprehensive primary health care and appropriate referrals (e.g. ancillary, inpatient, and specialty referrals) or arrangements for secondary and tertiary care; (3) have a documented record of sound fiscal management; (4) will experience a negative impact on their capacity to provide primary health services if a Corps member is not assigned to the entity, and (5) are a nonprofit or public entity to which Corps members may be assigned. Sites that provide specialized care, or a limited set of services, will receive greater scrutiny and may not receive approval as NHSC service sites. This may include clinics that focus on one disease or disorder or offer limited services, such as a clinic that only provides immunizations or a substance abuse clinic.

Entities at which NHSC scholars are performing their service obligations must assure that (1) the position will permit the full scope of practice and that the clinician meets the credentialing requirements of the state and site; and (2) the NHSC scholar assigned to the entity is engaged in the requisite amount of clinical practice, as defined below, to meet his or her service obligation:

Full-Time Clinical Practice

“Full-time clinical practice” is defined as a minimum of 40 hours per week for at least 45 weeks per service year. The 40 hours per week may be compressed into no less than 4 work days per week, with no more than 12 hours of work to be performed in any 24-hour period. Time spent on-call does not count toward the full-time service obligation, except to the extent the provider is directly treating patients during that period.

For all health professionals, except as noted below, at least 32 of the minimum 40 hours per week must be spent providing direct patient care in the outpatient ambulatory care setting(s) at the NHSC-approved service site(s) during normally scheduled office hours. The remaining 8 hours per week must be spent providing clinical services for patients or teaching in the approved practice site(s), providing clinical services in alternative settings as directed by the approved practice site(s), or performing practice-related administrative activities. Teaching activities at the approved service site shall not exceed 8 hours of the minimum 40 hours per week, unless the teaching takes place in a HRSA-funded Teaching Health Center (see Section 340H of the Public Health Service Act, 42 U.S.C. Section 256h). Teaching activities in a HRSA-funded Teaching Health Center shall not exceed 20 hours of the minimum 40 hours per week.

For obstetrician/gynecologists, certified nurse midwives, family medicine physicians who practice obstetrics on a regular basis, providers of geriatric services, pediatric dentists, and behavioral/mental health providers, at least 21 of the minimum 40 hours per week must be spent providing direct patient care in the outpatient ambulatory care setting(s) at the NHSC-approved service site(s), during normally scheduled office hours. The remaining 19 hours per week must be spent providing clinical services for patients or teaching in the approved practice site(s), providing clinical services in alternative settings as directed by the approved practice site(s), or performing practice-related administrative activities. No more than 8 hours per week can be spent performing practice-related administrative activities. Teaching activities at the approved service site shall not exceed 8 hours of the minimum 40 hours per week, unless the teaching takes place in a HRSA-funded Teaching Health Center. Teaching activities in a HRSA-funded Teaching Health Center shall not exceed 20 hours of the minimum 40 hours per week.

For physicians (including psychiatrists), physician assistants, nurse practitioners (including those specializing in psychiatry or mental health), and certified nurse midwives serving in a Critical Access Hospital (CAH) that is certified by the Centers for Medicare and Medicaid Services (CMS) as a CAH under section 1820 of the Social Security Act, the full-time service requirements are as follows: At least 16 of the minimum 40 hours per week must be spent providing direct patient care in the CAH-affiliated outpatient ambulatory care setting(s) specified in the NHSC's Customer Service Portal, during normally scheduled office hours. The remaining 24 hours of the minimum 40 hours per week must be spent providing direct patient care for patients or teaching at the CAH(s) or the CAH-affiliated outpatient ambulatory care setting specified in the Customer Service Portal, providing direct patient care in the CAH's skilled nursing facility or swing bed unit, or performing practice-related administrative activities. No more than 8 hours per week can be spent on practice-related administrative activities. Teaching activities at the approved service site(s) shall not exceed 8 hours of the minimum 40 hours per week, unless the teaching takes place in a HRSA-funded Teaching Health Center (see Section 340H of the Public Health Service Act, 42 U.S.C Section 256h). Teaching activities in a HRSA-funded Teaching Health Center shall not exceed 20 hours of the minimum 40 hours per week.

Half-Time Clinical Practice

“Half-time clinical practice” is defined as a minimum of 20 hours per week (not to exceed 39 hours per week), for at least 45 weeks per service year. The 20 hours per week may be compressed into no less than 2 work days per week, with no more than 12 hours of work to be performed in any 24-hour period. Time spent on-call does not count toward the half-time service obligation, except to the extent the provider is directly treating patients during that period.

For all health professionals, except as noted below, at least 16 of the minimum 20 hours per week must be spent providing direct patient care in the outpatient ambulatory care setting(s) at the NHSC-approved service site(s), during normally scheduled office hours. The remaining 4 hours per week must be spent providing clinical services for patients or teaching in the approved practice site(s), providing clinical services in alternative settings as directed by the approved practice site(s), or performing practice-related administrative activities. Teaching and practice-related administrative activities shall not exceed a total of 4 hours of the minimum 20 hours per week.

For obstetrician/gynecologists, certified nurse midwives, family medicine physicians who practice obstetrics on a regular basis, providers of geriatric services, pediatric dentists, and behavioral/mental health providers, at least 11 of the minimum 20 hours per week must be spent providing direct patient care in the outpatient ambulatory care setting(s) at the NHSC-approved service site(s), during normally scheduled office hours. The remaining 9 hours per week must be spent providing clinical services for patients or teaching in the approved practice site(s), providing clinical services in alternative settings as directed by the approved practice site(s), or performing practice-related administrative activities. Teaching and practice-related administrative activities shall not exceed 4 hours of the minimum 20 hours per week.

For physicians (including psychiatrists), physician assistants, nurse practitioners (including those specializing in psychiatry or mental health), and certified nurse midwives serving in a Critical Access Hospital (CAH), the half-time service requirements are as follows: At least 8 of the minimum 20 hours per week must be spent providing direct patient care in the CAH-affiliated outpatient ambulatory care setting(s) specified in the Customer Service Portal, during normally scheduled office hours. The remaining 12 hours of the minimum 20 hours per week must be spent providing direct patient care for patients or teaching at the CAH(s) or the CAH-affiliated outpatient ambulatory care setting specified in the Practice Agreement, providing direct patient care in the CAH's skilled nursing facility or swing bed unit, or performing practice-related administrative activities. Teaching and practice-related administrative activities shall not exceed 4 hours of the minimum 20 hours per week.

Half-time clinical practice is not an option for scholars serving their obligation through the Private Practice Option.

In addition to utilizing NHSC scholars in accordance with their full-time or half-time service obligation (as defined above), NHSC service sites are expected to: (1) Report to the NHSC all absences, including those in excess of the authorized number of days (up to 35 full-time days per service year in the case of full-time service and up to 35 half-time days per service year in the case of half-time service); (2) report to the NHSC any change in the status of an NHSC clinician at the site; (3) provide the time and leave records, schedules, and any related personnel documents for NHSC scholars (including documentation, if applicable, of the reason(s) for the termination of an NHSC clinician's employment at the site prior to his or her obligated service end date); and (4) submit an NHSC Site Survey, or a Uniform Data System (UDS) report in the case of entities receiving HRSA grant support under Section 330 of the Public Health Service Act. The Site Survey or UDS report, as applicable, requires the site to assess the age, sex, race/ethnicity of, and provider encounter records for, its user population and are site specific. Providers fulfilling NHSC commitments are approved to serve at a specific site or, in some cases, more than one site. The scope of activity to be reported in the survey includes all activity at the site(s) at which the NHSC scholar is serving.

Evaluation and Selection Process

In order for a site to be eligible for placement of NHSC scholars, it must be approved by the NHSC following the site's submission of a Site Application. Processing of site applications from solo or group practices will involve additional screening, including a site visit by NHSC representatives. The Site Application approval is good for a period of 3 years from the date of approval.

In approving applications for the assignment of Corps members, the Secretary shall give priority to any such application that is made regarding the provision of primary health services to a HPSA with the greatest shortage. For the program year July 1, 2014, through September 30, 2015, HPSAs of greatest shortage for determination of priority for assignment of NHSC scholarship-obligated Corps personnel will be defined as follows: (1) Primary medical care HPSAs with scores of 14 and above are authorized for the assignment of NHSC scholars who are primary care physicians, family nurse practitioners, physician assistants, or certified nurse midwives; (2) mental health HPSAs with scores of 14 and above are authorized for the assignment of NHSC scholars who are psychiatrists or mental health nurse practitioners; and (3) dental HPSAs with scores of 14 and above are authorized for the assignment of NHSC scholars who are dentists. The NHSC has determined that a minimum HPSA score of 14 for all service-ready NHSC scholars will enable it to meet its statutory obligation to identify a number of entities eligible for placement at least equal to, but not greater than twice the number of NHSC scholars available to serve in the 2014-2015 placement cycle.

The number of new NHSC placements through the Scholarship Program allowed at any one site is limited to one (1) of the following provider types: Physician (MD/DO), nurse practitioner, physician assistant, certified nurse midwife, or dentist. The NHSC will consider requests for up to two (2) scholar placements at any one site on a case by case basis. Factors that are taken into consideration include community need, as measured by demand for services, patient outcomes and other similar factors. Sites wishing to request an additional scholar must complete an Additional Scholar Request form available at http://nhsc.hrsa.gov/downloads/additionalrequestform.pdf.

NHSC-approved sites that do not meet the authorized threshold HPSA score of 14 may post job openings on the NHSC Jobs Center; however, scholars seeking placement between July 1, 2014 and September 30, 2015, will be advised that they can only compete for open positions at sites that meet the threshold placement HPSA score of 14. While not eligible for scholar placements in 2014-2015, vacancies in HPSAs scoring less than 14 will be used by the NHSC in evaluating the HPSA threshold score for the next scholarship placement cycle.

Application Requests, Dates and Address

The list of HPSAs and entities that are eligible to receive priority for the placement of NHSC scholars may be updated periodically. New entities may be added to the NHSC Jobs Center during a Site Application competition. Likewise, entities that no longer meet eligibility criteria, including those sites whose 3-year approval as an NHSC service site has lapsed or whose HPSA designation has been withdrawn or proposed for withdrawal, will be removed from the priority listing.

Additional Information

Entities wishing to provide additional data and information in support of their inclusion on the proposed list of entities that would receive priority in assignment of scholarship-obligated Corps members, or in support of a higher priority determination, must do so in writing no later than May 14, 2014. This information should be submitted to: Beth Dillon, Director, Division of Regional Operations, Bureau of Clinician Recruitment and Service, 999 18th Street, Denver, Colorado 80202. This information will be considered in preparing the final list of entities that are receiving priority for the assignment of scholarship-obligated Corps personnel.

The program is not subject to the provisions of Executive Order 12372, Intergovernmental Review of Federal Programs (as implemented through 45 CFR Part 100).

Dated: April 4, 2014.
Mary K. Wakefield,
Administrator.

[FR Doc. 2014-08264 Filed 4-11-14; 8:45 am]

BILLING CODE 4165-15-P